DEPARTMENT OF THE INTERIOR

Bureau of Reclamation

[A10-C382-1000-002-00-0-0, 6270000]

Notice of Availability of the Final Environmental Impact Statement for the Arkansas Valley Conduit and Long-Term Excess Capacity Master Contract, Fryingpan-Arkansas Project; Bent, Chaffee, Crowley, Custer, El Paso, Pueblo, Fremont, Lake, Kiowa, Otero, and Prowers Counties, Colorado

AGENCY: Bureau of Reclamation, Interior.

ACTION: Notice of availability.

SUMMARY: The final environmental impact statement (EIS) for the Arkansas Valley Conduit (AVC) and Long-Term Excess Capacity Contract, Fryingpan-Arkansas Project, Colorado, is available for public review. The Bureau of Reclamation has evaluated comments and is recommending a preferred alternative for approval. The proposed Arkansas Valley Conduit, conveyance contract for the Pueblo Dam north-south outlet works interconnect, and long-term excess capacity master contract to store water in available space in Pueblo Reservoir would deliver high-quality water that would meet Environmental Protection Agency and State water quality requirements, and help water providers throughout the Arkansas River Basin in Colorado reliably meet existing and future water demands.

DATES: The Bureau of Reclamation will not make a decision on the proposed action until at least 30 days after release of the Final EIS.

ADDRESSES: The final EIS is available for review at http://www.usbr.gov/avceis. Send requests for an executive summary and compact disc to Ms. J. Signe Snortland, Bureau of Reclamation, P.O. Box 1017, Bismarck, North Dakota 58502; or by email to jsnortland@usbr.gov.

See Supplementary Information section for locations where copies of the Final EIS are available for public review.

FOR FURTHER INFORMATION CONTACT: J. Signe Snortland, Environmental Specialist, at (701) 221-1278; or jsnortland@usbr.gov.

SUPPLEMENTARY INFORMATION: Three proposed Federal actions by the Bureau of Reclamation are analyzed in the Final EIS: (1) Construct and operate the AVC and enter into a repayment contract with Southeastern Colorado Water Conservancy District; (2) enter into a conveyance contract with various water providers for use of a pipeline interconnection between Pueblo Dam's north and south outlet works; and (3) enter into an excess capacity master contract with Southeastern Colorado Water Conservancy District to store water in Pueblo Reservoir. While serving similar water supply and delivery purposes, the proposed actions are independent of each other.

The AVC was authorized by Congress in the original Fryingpan-Arkansas legislation in 1962 (Pub. L. 87-590). However, it was not constructed with the original project, primarily because of the beneficiaries' inability to repay the construction costs. In 2009, Congress amended the original legislation in Public Law 111-11, which authorized annual Federal funding as necessary for constructing the AVC, and included a cost sharing plan with 65 percent Federal and 35 percent local funding. The Bureau of Reclamation would enter into a 50-year repayment contract with Southeastern Colorado Water Conservancy District, which would be responsible for paying the local share.

The AVC would be a water supply pipeline to help meet existing and future municipal and industrial water demands of southeastern Colorado water providers. Forty towns and rural domestic water providers in Pueblo, Crowley, Otero, Bent, Prowers, and Kiowa counties would participate in AVC. Water providers are requesting annual water deliveries of 10,256 acre-feet to help meet water demands in 2070. Fourteen of these water providers are currently under orders by the Colorado Department of Public Health and Environment to remove naturally-occurring radioactive contaminants from their surface or groundwater source using expensive treatment, or to find another better water quality source.

The interconnection would move water between the existing north and south outlet works at Pueblo Dam during emergencies or periodic maintenance activities. Interconnect operations would require a long-term (40-year) contract between AVC, Pueblo Fish Hatchery, Board of Water Works of Pueblo, Pueblo West, Southern Delivery System, and Fountain Valley Authority.

The purpose of the excess capacity master contract would be to allow use of extra storage space in Pueblo Reservoir to store up to 29,938 acre-feet of water. A long-term storage contract, rather than short-term contracts, is needed by 37 water providers to help meet projected demand through 2060 (the term of the contract).

Some of the resources potentially affected by the proposed actions that are evaluated in the Final EIS include: surface water quantity and quality in the Arkansas River Basin, groundwater, climate change, recreation biological resources, human environment, socioeconomics, environmental justice, and historic properties.

A Notice of Availability of the Draft EIS was published in the Federal Register on August 29, 2012 (77 FR 52365). The written comment period on the Draft EIS ended on October 30, 2012. The Final EIS contains responses to all comments received, and reflects comments and any additional information received during the review period.

Copies of the Final EIS are available at the following locations:

• Bureau of Reclamation, Eastern Colorado Area Office, 11056 West County Road 18E, Loveland, Colorado 80537

• Bureau of Reclamation, Great Plains Regional Office, 2021 4th Avenue North, Billings, Montana 59101

• Carnegie Library—Cañon City, 516 Macon Avenue, Cañon City, Colorado 81212

• Crowley County Combined Community Library, 1007 Main Street, Ordway, Colorado 81063

• Pueblo City-County Library District, 100 East Abriendo Avenue, Pueblo, Colorado 81004

• Pikes Peak Library District, 5550 North Union Boulevard, Colorado Springs, Colorado 80918

• Pueblo West Public Library, 298 South Joe Martinez Boulevard, Pueblo, Colorado 81007

• Frank & Marie Barkman Library, 1300 Jerry Murphy Road, Pueblo, Colorado 81001

• Pueblo City-County Library District—Lamb Branch, 2525 South Pueblo Boulevard, Pueblo, Colorado 81005

• Salida Regional Library, 405 East Street, Salida, Colorado 81201

• John C. Fremont Library District, 130 Church Avenue, Florence, Colorado 81226

• Fountain Branch Library, 230 South Main Street, Fountain, Colorado 80817

• Fowler Public Library, 400 6th Avenue, Fowler, Colorado 81039

• Kiowa County Public Library District, 1305 Goff Street, Eads, Colorado 81036

• La Junta-Woodruff Memorial Library, 522 Colorado Avenue, La Junta, Colorado 81050

• Lamar Public Library, 102 East Parmenter Street, Lamar, Colorado 81052

• Las Animas-Bent County Library District, 306 5th Street, Las Animas, Colorado 81054

• Manzanola School-Public Library, 301 Catalpa, Manzanola, Colorado 81058

• Rocky Ford Public Library, 400 South 10th Street, Rocky Ford, Colorado 81067

• Security Public Library, 715 Aspen Drive, Colorado Springs, Colorado 80911

• Swink School-Public Library, 610 Columbia Avenue, Swink, Colorado 81077

• Trimble Library, 1111 Academy Park Loop, Colorado Springs, Colorado 80910

Dated: August 1, 2013.
Michael J. Ryan,
Regional Director, Great Plains Region.

[FR Doc. 2013-19282 Filed 8-8-13; 8:45 am]

BILLING CODE 4310-MN-P